DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Amendment 80 Economic Data Report (EDR) for the Catcher/Processor Non-AFA Trawl Sector.

OMB Control Number: 0648-0564.

Form Number(s): NA.

Type of Request: Regular submission (extension of a current information collection).

Number of Respondents: 25.

Average Hours per Response: 20.

Burden Hours: 500.

Needs and Uses: This request is for extension of a current information collection.

Amendment 80 to the Fishery Management Plan for Groundfish of the Bering Sea and Aleutian Islands Management Area primarily allocates several Bering Sea and Aleutian Islands Management Area non-pollock trawl groundfish fisheries among fishing sectors, and facilitates the formation of harvesting cooperatives in the catcher/processor sector of the Non-American Fisheries Act (AFA) Trawl Catcher/Processor Cooperative Program (Program). The Program established a limited access privilege program for the Non-AFA trawl catcher/processor sector.

The Amendment 80 economic data report (EDR) collects cost, revenue, ownership, and employment data on an annual basis and provides information unavailable through other means to review the Program. The purpose of the EDR is to understand the economic effects of the Amendment 80 program on vessels or entities regulated by the Program, and to inform future management actions. Data collected through the EDR is mandatory for all Amendment 80 quota share (QS) holders.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 23, 2014.
Gwellnar Banks,
Management Analyst, Office of the Chief Information Officer.

[FR Doc. 2014-01664 Filed 1-28-14; 8:45 am]

BILLING CODE 3510-22-P